DEPARTMENT OF THE INTERIOR

Fish and Wildlife Service

[FWS-R5-R-2013-N188; BAC-4311-K9-S3]

Great Swamp National Wildlife Refuge, Morris County, NJ; Draft Comprehensive Conservation Plan and Environmental Assessment

AGENCY: Fish and Wildlife Service, Interior.

ACTION: Notice of availability; request for comments.

SUMMARY: We, the U.S. Fish and Wildlife Service (Service), announce the availability of a draft comprehensive conservation plan and environmental assessment (CCP/EA) for Great Swamp National Wildlife Refuge (NWR), located in Morris County, New Jersey, for public review and comment. The draft CCP/EA describes our proposal for managing the refuge for the next 15 years.

Also available for public review and comment are the draft findings of appropriateness and draft compatibility determinations for uses to be allowed upon initial completion of the plan, if alternative B is selected. These are included as appendix C in the draft CCP/EA.

DATES: To ensure consideration, please send your comments no later than June 30, 2014. We will announce upcoming public meetings in local news media, via our project mailing list, and on our Regional planning Web site: http://www.fws.gov/northeast/planning/Great%20Swamp/ccphome.html.

ADDRESSES: You may submit comments or requests for copies or more information by any of the following methods. You may request hard copies or a CD-ROM of the documents.

Email: northeastplanning@fws.gov. Please include “Great Swamp Draft CCP” in the subject line of the message.

Fax: Attention: Bill Perry, 413-253-8468.

U.S. Mail: Bill Perry, Natural Resource Planner, U.S. Fish and Wildlife Service, 300 Westgate Center Drive, Hadley, MA 01035.

In-Person Drop-off, Viewing, or Pickup: Call 973-425-1222 extension 116 to make an appointment (necessary for view/pickup only) during regular business hours at Great Swamp National Wildlife Refuge, 32 Pleasant Plains Road, Basking Ridge, NJ 07920. For more information on locations for viewing or obtaining documents, see “Public Availability of Documents” under SUPPLEMENTARY INFORMATION.

FOR FURTHER INFORMATION CONTACT: Bill Koch, Refuge Manager, 973-425-1222 extension 156 (phone), or Bill Perry, Planning Team Leader, 413-253-8688 (phone), northeastplanning@fws.gov (email).

SUPPLEMENTARY INFORMATION:

Introduction

With this notice, we continue the CCP process for Great Swamp NWR. We started this process through a notice in the Federal Register (75 FR 41879) on July 19, 2010.

Great Swamp was established by an act of Congress on November 3, 1960, and formally dedicated in 1964, primarily under the authorities of the Migratory Bird Treaty Act of 1918 (16 U.S.C. 703-711) and the Migratory Bird Conservation Act of 1929 (U.S.C. 715-715s, 45 Stat. 1222) as amended, “for use as an inviolate sanctuary, or for any other management purpose, for migratory birds.” The refuge currently encompasses 7,768 acres and has an approved acquisition boundary that would allow for refuge expansion to a maximum of 9,429 acres. Great Swamp NWR is located approximately 26 miles from New York City and is an area that is heavily suburbanized. The refuge provides vital brooding, nesting, feeding, and resting habitat for a variety of migratory bird species, including waterfowl. Although established primarily for migratory birds, the refuge's mosaic of forested wetlands, emergent wetlands, and various successional stages of upland vegetation provides habitats for a diversity of wildlife species.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We started pre-planning for the Great Swamp NWR CCP in 2008. In July 2010, we distributed our first newsletter and press release announcing our intent to prepare a CCP for the refuge. In July and August 2010, we had a formal public scoping period. The purpose of the public scoping period was to solicit comments from the community and other interested parties on the issues and impacts that should be evaluated in the draft CCP/EA. To help solicit public comments, we held two public meetings at the refuge during the formal public scoping period. Throughout the rest of the planning process, we have conducted additional outreach by participating in community meetings, events, and other public forums, and by requesting public input on managing the refuge and its programs. We received comments on topics such as refuge maintenance, public use and access, natural resource management, endangered and threatened species, hunting and animal welfare, and regional or global environmental issues, including water quality, air quality, and climate change. We have considered and evaluated all of the comments we received and addressed them in various ways in the alternatives presented in the draft CCP/EA.

CCP Alternatives We Are Considering

During the public scoping process, we, the New Jersey Division of Fish and Wildlife, other governmental partners, and the public raised several issues. To address these issues, we developed and evaluated four alternatives in the draft CCP/EA. A full description of each alternative is in the draft CCP/EA. All alternatives include measures to control invasive species, monitor and abate diseases affecting wildlife and plant health, construct additional facilities to improve administrative infrastructure, protect cultural resources, facilitate or conduct biological research and investigations, develop an offsite interpretive program, and improve inventory and monitoring programs.

There are other actions that differ among the alternatives. The draft CCP/EA describes each alternative in detail and relates it to the issues and concerns that arose during the planning process. Below, we provide summaries for the four alternatives.

Alternative A (Current Management)

Alternative A (current management) satisfies the National Environmental Policy Act (40 CFR 1506.6(b)) requirement of a “no action” alternative, which we define as “continuing current management.” It describes our existing management priorities and activities, and serves as a baseline for comparing and contrasting alternatives B, C, and D. It would maintain our present levels of approved refuge staffing and the biological and visitor programs now in place. We would continue to manage for and maintain a diversity of habitats, including freshwater wetlands, impoundments, scrub-shrub, grasslands, wet meadows, and forests on the refuge. The refuge would continue to provide an active visitor use program that supports environmental education and interpretation, hunting, fishing, and wildlife observation and photography.

Alternative B (Enhance Biological Diversity and Public Use Opportunities)

This alternative is the Service-preferred alternative. It combines the actions we believe would most effectively achieve the refuge's purposes, vision, and goals, and respond to the issues raised during the scoping period. This alternative emphasizes management of specific refuge habitats to support viable populations of focal species whose habitat needs benefit other species, especially those of conservation concern. We would continue to maintain a diversity of forest, non-forested, open water, grassland, and scrub-shrub habitats. However, habitats would be reconfigured and maintained to create large (greater than 50 acres) contiguous patches to promote wildlife use, increase connectivity, decrease fragmentation, and increase maintenance efficiency and reduce associated costs. This alternative emphasizes habitat for priority bird species and federally listed species, including the bog turtle and Indiana bat.

This alternative would also enhance the refuge's public use opportunities, and place more emphasis on connecting with communities in nearby urban areas. It would expand the hunt program by permitting archery for deer and opening the refuge to turkey hunting. It would also improve wildlife viewing and photography opportunities in a variety of habitats, expand visitor center hours, and increase the number of environmental education and interpretation programs on- and off-refuge. It attempts to balance public use with resource protection.

Alternative C (Emphasis on Maximizing Natural Regeneration)

Alternative C emphasizes allowing natural succession or regeneration to occur to the maximum extent practical. We would maximize core forest habitats while maintaining large (i.e., greater than 50 acres) contiguous patches of actively managed grasslands and scrub-shrub habitats. This alternative would guide management to restore, where practical, the distribution of natural communities of the Great Swamp that would have resulted from natural processes without the influence of human settlement or management intervention. This alternative recognizes that refuge habitats and wildlife populations are not ecologically independent from the surrounding landscape, and that by taking a long-term regional perspective, the refuge can best contribute to higher conservation priorities at greater scales. This alternative continues to provide actively managed habitats in select areas to maintain wildlife viewing and photography opportunities for refuge visitors, as well as vital habitat for the refuge's species of conservation concern. Although some open water habitat would be eliminated, the refuge would continue to maintain open water habitat for waterfowl use. Under this alternative, the public use program would be similar to alternative A; however, under this alternative, we would eliminate less-used or dead-end trails in the wilderness area.

Alternative D (Focus on Expansion of Priority Public Uses)

Alternative D emphasizes expanding wildlife-dependent priority public uses on the refuge. Public use and access would be maximized to the greatest extent practical, while minimizing impacts to wildlife. We would expand refuge infrastructure, including construction of new trails, observation towers, signage, and parking lots; expand hunting; and allow fishing in select areas of the refuge. This alternative would maximize public outreach, enhance and develop new environmental interpretation and education programs, aggressively expand partnerships, and increase staff presence at programs and events. In general, refuge habitats would be managed similarly to alternative B; however, this alternative would increase open water habitat to improve public viewing opportunities.

Public Availability of Documents

In addition to any methods in ADDRESSES, you can view or obtain documents at the following locations:

• Our Web site: http://www.fws.gov/northeast/planning/Great%20Swamp/ccphome.html.

Submitting Comments

We consider comments substantive if they:

• Question, with reasonable basis, the accuracy of the information in the document.

• Question, with reasonable basis, the adequacy of the EA.

• Present reasonable alternatives other than those presented in the EA.

• Provide new or additional information relevant to the EA.

Next Steps

After this comment period ends, we will analyze the comments and address them in the form of a final CCP and, if appropriate, a finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: April 7, 2014.
Deborah Rocque,
Acting Regional Director, Northeast Region.

[FR Doc. 2014-10673 Filed 5-13-14; 8:45 am]

BILLING CODE 4310-55-P